FEDERAL COMMUNICATIONS COMMISSION

47 CFR Part 64

[WC Docket No. 04-36, CG Docket No. 03-123, WT Docket No. 96-198 and CC Docket No. 92-105; DA 09-749]

IP-Enabled Services; Implementation of Sections 255 and 251(a)(2) of the Communications Act of 1934, as Enacted by the Telecommunications Act of 1996: Access to Telecommunications Service, Telecommunications Equipment and Customer Premises Equipment by Persons With Disabilities; Telecommunications Relay Services and Speech-to-Speech Services for Individuals With Hearing and Speech Disabilities

AGENCY: Federal Communications Commission.

ACTION: Final rule; extension of waiver.

SUMMARY: In this document, the Commission, via the Consumer and Governmental Affairs Bureau, extends the limited waiver granted in the Implementation of Sections 255 and 251(a)(2) of the Communications Act of 1934, as Enacted by the Telecommunications Act of 1996: Access to Telecommunications Service, Telecommunications Equipment and Customer Premises Equipment by Persons with Disabilities; Telecommunications Relay Services and Speech-to-Speech Services for Individuals with Hearing and Speech Disabilities, Order (2008 TRS 711 Waiver Order) of the requirement that traditional telecommunications relay service (TRS) providers (those providing relay service via the public switched telephone network and a text telephone (TTY)) must automatically and immediately call an appropriate Public Safety Answering Point (PSAP) when receiving an emergency 711-dialed call placed by an interconnected voice over Internet Protocol (VoIP) user. In taking this action, the Commission grants, to the extent provided herein, the petition for extension of waiver filed by AT&T Inc. (AT&T) and Sprint Nextel Corporation (Sprint) with respect to traditional TRS providers' duty to automatically and immediately route emergency 711 calls that originate on the network of an interconnected VoIP provider.

DATES: Effective on April 1, 2009. Traditional TRS providers are granted a waiver until June 29, 2009.

FOR FURTHER INFORMATION CONTACT: Lisa Boehley, Consumer and Governmental Affairs Bureau at (202) 418-7395 (voice), or e-mail: Lisa.Boehley@fcc.gov.

SUPPLEMENTARY INFORMATION: This is a synopsis of the Commission's document DA 09-749, adopted and released April 1, 2009. This document also contains a separate document seeking comment on issues raised by the petition for extension of waiver filed by AT&T and Sprint. The full text of this document and copies of any subsequently filed documents in this matter will be available for public inspection and copying during regular business hours at the FCC Reference Information Center, Portals II, 445 12th Street, SW., Room CY-A257, Washington, DC 20554. This document and copies of subsequently filed documents in this matter may also be purchased from the Commission's duplicating contractor at Portals II, 445 12th Street, SW., Room CY-B402, Washington, DC 20554. Customers may contact the Commission's duplicating contractor at their Web site: http://www.bcpiweb.com or call 1-800-378-3160. To request materials in accessible formats for people with disabilities (Braille, large print, electronic files, audio format), send an e-mail to fcc504@fcc.gov or call the Consumer and Governmental Affairs Bureau at (202) 418-0530 (voice), (202) 418-0432 (TTY). This document can also be downloaded in Word or Portable Document Format (PDF) at: http://www.fcc.gov/cgb/dro.

Synopsis

On June 15, 2007, the Commission released the Report and Order (VoIP TRS Order), published at 72 FR 43546, August 6, 2007, WC Docket No. 04-36, CG Docket No. 03-123, WT Docket No. 96-198 and CC Docket No. 92-105, FCC 07-110. In the VoIP TRS Order, the Commission extended its pre-existing TRS rules to interconnected VoIP providers, including the duty to offer 711 abbreviated dialing access to TRS. The VoIP TRS Order required interconnected VoIP providers to offer 711 abbreviated dialing “to ensure that TRS calls can be made from any telephone, anywhere in the United States, and that such calls will be properly routed to the appropriate relay center.”

In the Order and Public Notice Seeking Comment (October 2007 Order and Notice), released on October 9, 2007, published at 72 FR 61813, November 1, 2007, and 72 FR 61882, November 1, 2007, WC Docket No. 04-36, CG Docket No. 03-123, WT Docket No. 96-198 and CC Docket No. 92-105, DA 07-4178, the Commission clarified the 711 abbreviated dialing requirement adopted in the VoIP TRS Order and granted interconnected VoIP providers a six-month waiver of the requirement to route the inbound leg of a 711-dialed call to an “appropriate TRS provider,” as defined by the Commission. The Commission also determined that the geographic location identification challenges associated with interconnected VoIP-originated 711 calls rendered traditional TRS providers unable to consistently identify the “appropriate” PSAP to which to route such calls. On this basis, the Commission found good cause to grant traditional TRS providers a six-month waiver of the obligation set forth in § 64.604(a)(4) of its rules to automatically and immediately route the outbound leg of an interconnected VoIP-originated emergency 711 call to an “appropriate” PSAP.

In the 2008 TRS 711 Waiver Order, released on April 4, 2008, published at 73 FR 28057, May 15, 2008, WC Docket No. 04-36, CG Docket No. 03-123, WT Docket No. 96-198 and CC Docket No. 92-105, DA 07-4178, the Commission granted interconnected VoIP providers an extension of time, until March 31, 2009, to route 711-dialed calls to an appropriate relay center, in the context of 711-dialed calls in which the calling party is using a non-geographically relevant telephone number or a nomadic interconnected VoIP service. The Commission also granted traditional TRS providers an extension of time, until March 31, 2009, to fulfill their obligation to implement a system to automatically and immediately call an appropriate PSAP when receiving an emergency 711-dialed call via an interconnected VoIP service.

In this document, the Commission extends for 90 days (until June 29, 2009) the limited waiver granted to traditional TRS providers in the 2008 TRS 711 Waiver Order. In taking this action, the Commission grants, to the extent provided herein, the petition for extension of waiver filed by AT&T and Sprint from the requirement of § 64.604(a)(4) of the Commission's rules with respect to traditional TRS providers' duty to automatically and immediately route emergency 711 calls that originate on the network of an interconnected VoIP provider. The Commission's reasons for extending the waiver are three-fold. First, petitioners note that the routing of the outbound leg of an interconnected VoIP-originated, 711-dialed call to an appropriate PSAP by a TRS provider continues to present significant technical and operational challenges. Second, to the extent that interconnected VoIP providers are only recently able to consistently deliver the inbound leg of a 711-dialed call to the appropriate relay center, the Commission agrees that implementation of a solution to allow TRS providers to properly route emergency 711-dialed VoIP calls will take additional time beyond the March 31, 2009 deadline for interconnected VoIP providers. Third, as the petition reflects, addressing these challenges requires further collaboration among a variety of stakeholders including TRS providers, interconnected VoIP providers and their vendors, PSAPs, the emergency services community, and the consumers. In light of the foregoing, the Commission finds good cause to grant traditional TRS providers an extension of the current waiver of § 64.604(a)(4) of its rules until June 29, 2009.

During the period of this waiver, a traditional TRS provider that cannot automatically and immediately route to an appropriate PSAP the outbound leg of an emergency 711 call placed via TTY by an interconnected VoIP user, as required by § 64.604(a)(4) of the Commission's rules, must maintain a manual system for doing so, to the extent feasible, that accomplishes the proper routing of emergency 711 calls as efficiently as possible. Further, during this period, traditional TRS providers must take steps to remind individuals with hearing or speech disabilities to dial 911 directly (as a text-to-text, TTY-to-TTY call) in an emergency, whether using a PSTN-based service or interconnected VoIP service, rather than making a TRS call via 711 in an emergency. Finally, the Commission expects traditional TRS providers to continue their collaboration with industry stakeholders in order to address any remaining issues, such that a further extension of this waiver will be unnecessary.

Based on the record, the Commission allows the waiver relief previously granted to interconnected VoIP providers of the requirement to route 711-dialed calls to an appropriate relay center to expire after the March 31, 2009 deadline. Accordingly, interconnected VoIP providers will be required to properly route all 711-dialed calls to an appropriate relay center (i.e., the relay center serving the state in which the caller is geographically located or that corresponds to the caller's last registered address). Given that compliance issues remain with respect to traditional TRS providers' handling and routing of the outbound leg of emergency 711 VoIP calls, interconnected VoIP providers, however, must continue to take steps to remind persons with speech or hearing disabilities to dial 911 directly (as a TTY-to-TTY call), rather than dialing 711 (as a relay call), in the event of an emergency.

Ordering Clauses

Pursuant to Sections 1, 2, and 225 of the Communications Act of 1934, as amended, 47 U.S.C. 151, 152, and 225, and Sections 0.141, 0.361, and 1.3 of the Commission's rules, 47 CFR 0.141, 0.316 and 1.3, document DA 09-749 is adopted.

Traditional TRS providers are granted an extension of time, until June 29, 2009, to implement a system, as set forth in § 64.604(a)(4) of the Commission's rules, 47 CFR 64.604(a)(4), to automatically and immediately call an appropriate PSAP when receiving an emergency 711-dialed call via an interconnected VoIP service.

The Petition of AT&T and Sprint Nextel for Extension of Waiver is granted to the extent provided herein.

Federal Communications Commission.
Catherine Seidel,
Chief, Consumer and Governmental Affairs Bureau.

[FR Doc. E9-10502 Filed 5-5-09; 8:45 am]

BILLING CODE 6712-01-P